DEPARTMENT OF ENERGY

[GDO Docket No. EA-264-E]

Application for Renewal of Authorization To Export Electric Energy; ENMAX Energy Marketing Inc.

AGENCY: Grid Deployment Office, Department of Energy.

ACTION: Notice of application.

SUMMARY: ENMAX Energy Marketing, Inc. (ENMAX or Applicant) has applied for renewed authorization to transmit electric energy from the United States to Canada pursuant to the Federal Power Act.

DATES: Comments, protests, or motions to intervene must be submitted on or before August 23, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Delegation Order No. S1-DEL-S3-2023 and Redelegation Order No. S3-DEL-GD1-2023.

On November 27, 2019, DOE issued Order No. EA-264-D to ENMAX to transmit electric energy from the United States to Canada as a power marketer for a period of five years. On May 30, 2024, ENMAX filed an application (Application or App.) for renewal of its export authority for a five-year term. App. at 1.

According to the Application, ENMAX is an Alberta, Canada corporation having its principal place of business at Calgary, Alberta, Canada and a wholly owned subsidiary of ENMAX Energy Corporation, which is a wholly owned subsidiary of ENMAX Corporation, which is wholly owned by The City of Calgary. Id. at 1-2. ENMAX represents that it is a power marketer and engages in the purchase and sale of energy and capacity in wholesale electric markets. Id. at 3. ENMAX also represents that it has received authority from the Federal Energy Regulatory Commission (FERC) to sell power in the U.S. at market-based rates. Id. at 1.

The Applicant states that although it does not own transmission border facilities, it purchases transmission service from locations in the United States to the border with Canada. Id. at 5. Furthermore, ENMAX represents that its parent company ENMAX Corporation, through ENMAX Power Corporation, owns electrical transmission and distribution assets in the Calgary, Alberta, Canada region and indirectly owns Versant Power, a public utility that owns electrical transmission and distribution lines in Maine. Id. at 2.

ENMAX represents that its export of electricity will not impair the sufficiency of the United States electric supply because the power exported will only be on transmission lines with available capacity. App. at 5. Additionally, the Applicant states that it will comply with all applicable reliability and technical standards set forth in the relevant licenses and that its proposed exports would not adversely affect transmission facilities or impede the coordinated use of transmission facilities. Id.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning ENMAX's Application should be clearly marked with GDO Docket No. EA-264-E. Additional copies are to be provided directly to Wesley Manfro, ENMAX Corporation, 141—50 Avenue SE Calgary, AB T2G 4S7, wmanfro@enmax.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on July 18, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 19, 2024.
Treena V. Garrett,
Federal Register Liaison Officer, U.S. Department of Energy.

[FR Doc. 2024-16270 Filed 7-23-24; 8:45 am]

BILLING CODE 6450-01-P